DEPARTMENT OF THE INTERIOR

Fish and Wildlife Service

[FWS-R8-ES-2022-0149; FXES11140800000-223-FF08EVEN0]

Draft Habitat Conservation Plan and Draft Categorical Exclusion for the Santa Barbara County Distinct Population Segment of the California Tiger Salamander; Kelt Reservoir Project, Santa Barbara County, CA

AGENCY: Fish and Wildlife Service, Interior.

ACTION: Notice of availability; request for comments.

SUMMARY: We, the U.S. Fish and Wildlife Service, announce the availability of a draft habitat conservation plan (HCP) and draft categorical exclusion (CatEx) for activities associated with an application for an incidental take permit (ITP) under the Endangered Species Act. The ITP would authorize take of the Santa Barbara County distinct population segment of the California tiger salamander incidental to activities associated with Golden State Water Company's (applicant) Kelt Reservoir Project in Orcutt, Santa Barbara County, California. The applicant developed the draft HCP as part of their application for an ITP. The Service prepared a draft low-effect screening form and environmental action statement in accordance with the National Environmental Policy Act to evaluate the potential effects to the natural and human environment resulting from issuing an ITP to the applicant. We invite comments from the public and Federal, Tribal, State, and local governments.

DATES: Written comments should be received on or before February 9, 2023.

ADDRESSES:

Obtaining Documents: You may obtain copies of the documents online in Docket No. FWS-R8-ES-2022-0149 at https://www.regulations.gov, or you may request copies of the documents by U.S. mail (below) or by email (see FOR FURTHER INFORMATION CONTACT).

Submitting Written Comments: Please send us your written comments using one of the following methods:

• Online: https://www.regulations.gov. Follow the instructions for submitting comments on Docket No. FWS-R8-ES-2022-0149.

• U.S. Mail: Public Comments Processing, Attn: Docket No. FWS-R8-ES-2022-0149; U.S. Fish and Wildlife Service; MS: PRB/3W, 5275 Leesburg Pike; Falls Church, VA 22041-3803.

FOR FURTHER INFORMATION CONTACT: Joseph Brandt, Fish and Wildlife Biologist, by email at joseph_brandt@fws.gov or via phone at (805) 677-3324. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of a draft habitat conservation plan and draft low-effect screening form and environmental action statement for activities associated with an application for an incidental take permit under section 10(a)(1)(B) of the Endangered Species Act of 1973, as amended (ESA; 16 U.S.C. 1531 et seq.). The ITP would authorize take of the Santa Barbara County distinct population segment (DPS) of the California tiger salamander (Ambystoma californiense) incidental to activities associated with the construction of two water tanks over a 7.15-acre (ac) project site in Orcutt, Santa Barbara County, California. The project site incorporates a 1.3-mile waterline segment, two water tanks, and an existing staging area. The waterline segment will be constructed within an existing road and will not impact California tiger salamander upland or aquatic habitats. The water tanks will be constructed on 0.68 ac of undeveloped lands that support annual grasslands and coyote brush scrub. The water tank site supports suitable California tiger salamander upland habitat. The applicant developed the draft HCP as part of their application for an ITP. The Service prepared a draft low-effect screening form and environmental action statement in accordance with the National Environmental Policy Act of 1969 (NEPA; 42 U.S.C. 4321 et seq.) to evaluate the potential effects to the natural and human environment resulting from issuing an ITP to the applicant. We invite comments from the public and Federal, Tribal, State, and local governments on all of these documents.

Background

The Service listed the Santa Barbara County DPS of the California tiger salamander as endangered on September 21, 2000 (65 FR 57242). Section 9 of the ESA prohibits take of fish and wildlife species listed as endangered (16 U.S.C. 1538). Under the ESA, “take” is defined to include the following activities: “to harass, harm, pursue, hunt, shoot, wound, kill, trap, capture, or collect, or to attempt to engage in any such conduct” (16 U.S.C. 1532). Under section 10(a)(1)(B) of the ESA (16 U.S.C. 1539(a)(1)(B)), we may issue permits to authorize take of listed fish and wildlife species that is incidental to, and not the purpose of, carrying out an otherwise lawful activity. Regulations governing incidental take permits for endangered species are in the Code of Federal Regulations (CFR) at 50 CFR 17.22. Issuance of an ITP also must not jeopardize the existence of federally listed fish, wildlife, or plant species, pursuant to section 7 of the ESA and 50 CFR 402.02. The permittee would receive assurances under our “No Surprises” regulations (50 CFR 17.22(b)(5)).

Proposed Activities

The applicant has applied for a permit for incidental take of the Santa Barbara County DPS of the California tiger salamander. The take would occur in association with the construction of two water tanks permanently impacting 0.68 ac in Orcutt, Santa Barbara County, California, over a 7.15-acre (ac) project site in Orcutt, Santa Barbara County, California. The project site incorporates a 1.3-mile waterline segment, two water tanks, and an existing staging area. The waterline segment will be constructed within an existing road and will not impact California tiger salamander upland or aquatic habitats. The water tanks will be constructed on 0.68 ac of undeveloped lands that support annual grasslands and coyote brush scrub that supports suitable California tiger salamander upland habitat.

The HCP includes avoidance and minimization measures for the Santa Barbara County DPS of the California tiger salamander and mitigation for unavoidable loss of habitat. As mitigation, the applicant proposes to purchase credits from a Service-approved conservation bank.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the Endangered Species Act (16 U.S.C. 1531 et seq.) and its implementing regulations (50 CFR 17.22), and National Environmental Policy Act (42 U.S.C. 4321 et seq.) and its implementing regulations (40 CFR 1506.6).

Stephen Henry,
Field Supervisor, Ventura Fish and Wildlife Office, Ventura, California.

[FR Doc. 2023-00291 Filed 1-9-23; 8:45 am]

BILLING CODE 4333-15-P